ENVIRONMENTAL PROTECTION AGENCY

[EPA-HQ-OW-2006-0771, FRL-8544-7]

Agency Information Collection Activities: Proposed Collection; Extension of Comment Period; Coalbed Methane Extraction Sector Questionnaire (New), EPA ICR Number 2291.01

AGENCY: Environmental Protection Agency (EPA).

ACTION: Extension of Comment Period.

SUMMARY: In compliance with the Paperwork Reduction Act (44 U.S.C. 3501 et seq.), EPA announced on January 25, 2008, its plan to submit a proposed Information Collection Request (ICR) to the Office of Management and Budget (OMB) and solicited public comments on this request for a new collection on the coalbed methane extraction industry sector. In response to requests from several stakeholders, this action extends the public comment period for an additional 30 days.

DATES: EPA must receive your comments on or before April 24, 2008. Submit your comments, data and information for the Coalbed Methane Extraction Sector Questionnaire, Attention Docket ID No. EPA-HQ-OW-2006-0771, by one of the following methods:

(1) www.regulations.gov. Follow the on-line instructions for submitting comments.

(2) E-mail: OW-Docket@epa.gov, Attention Docket ID No. EPA-HQ-OW-2006-0771.

(3) Mail: Water Docket, Environmental Protection Agency, Mailcode: 4203M, 1200 Pennsylvania Ave., NW., Washington, DC 20460, Attention Docket ID No. EPA-HQ-OW-2006-0771. Please include a total of 3 copies.

(4) Hand Delivery: Water Docket, EPA Docket Center, EPA West, Room 3334, 1301 Constitution Ave., NW., Washington, DC, Attention Docket ID No. EPA-HQ-OW-2006-0771. Such deliveries are only accepted during the Docket's normal hours of operation and special arrangements should be made.

Instructions: Direct your comments to Docket ID No. EPA-HQ-OW-2006-0771. EPA's policy is that all comments received will be included in the public docket without change and may be made available online at www.regulations.gov, including any personal information provided, unless the comment includes information claimed to be Confidential Business Information (CBI) or other information whose disclosure is restricted by statute. Do not submit information through regulations.gov or e-mail that you consider to be CBI or otherwise protected. The federal regulations.gov Web site is an “anonymous access” system, which means EPA will not know your identity or contact information unless you provide it in the body of your comment. If you submit an electronic comment, EPA recommends that you include your name and other contact information in the body of your comment and with any disk or CD-ROM you submit. If you send an e-mail comment directly to EPA without going through regulations.gov, your e-mail address will be automatically captured and included as part of the comment that is placed in the public docket and made available on the Internet. If EPA cannot read your comment due to technical difficulties and cannot contact you for clarification, EPA may not be able to consider your comment. Electronic files should avoid the use of special characters, and any form of encryption, and should be free of any defects or viruses.

Docket: All documents in the docket are listed in the index at www.regulations.gov. Although listed in the index, some information is not publicly available, i.e., CBI or other information whose disclosure is restricted by statute. Certain other material, such as copyrighted material, is not placed on the Internet and will be publicly available only in hard copy form. Publicly available docket materials are available either electronically at www.regulations.gov or in hard copy at the Water Docket in the EPA Docket Center, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Mr. Carey A. Johnston at (202) 566-1014 or johnston.carey@epa.gov.

SUPPLEMENTARY INFORMATION: On January 25, 2008 (73 FR 4556), EPA solicited comment on the Agency's proposed Information Collection Request (ICR) for the coalbed methane (CBM) sector. EPA identified the CBM sector as a candidate for a detailed study in the final 2006 Effluent Guidelines Program Plan (71 FR 76656; December 21, 2006) and also identified that it would develop an industry questionnaire to support this detailed study and would seek Office of Management and Budget (OMB) approval under the Paperwork Reduction Act (PRA). EPA is conducting this review to determine if it would be appropriate to conduct a rulemaking to revise the effluent guidelines for the Oil and Gas Extraction Point Source Category (40 CFR part 435) to control pollutants discharged in CBM-produced water. EPA also noticed it will conduct an ICR in the preliminary 2008 Plan (72 FR 61343; October 30, 2007). For each industrial sector, EPA's planning process considers four factors: pollutants discharged, current and potential pollution prevention and control technology options, growth and economic affordability, and implementation and efficiency considerations of revising existing effluent guidelines or publishing new effluent guidelines. EPA will use this ICR to collect technical and economic information from a wide range of CBM operations to address these factors in greater detail (e.g., geographical and geologic differences in the characteristics of CBM-produced waters, environmental data, current regulatory controls, availability and affordability of treatment technology options). See final 2006 Plan (71 FR 76666). Response to the questionnaire is mandatory for recipients and EPA will administer the questionnaire using its authority under Section 308 of the CWA, 33 U.S.C. 1318.

The original comment deadline was March 25, 2008. Several stakeholders have requested an extension to the comment period in order to adequately understand this new information collection and provide comments (see EPA-HQ-OW-2006-0771-1074, 1075, www.regulations.gov). This action extends the comment period for 30 days.

Dated: March 14, 2008.
Ephraim S. King,
Director, Office of Science and Technology.

[FR Doc. E8-5661 Filed 3-19-08; 8:45 am]

BILLING CODE 6560-50-P